DEPARTMENT OF ENERGY

Basic Energy Sciences Advisory Committee; Notice of Open Meeting

AGENCY: Department of Energy, Office of Science.

ACTION: Notice of open meeting.

SUMMARY: This notice announces a meeting of the Basic Energy Sciences Advisory Committee (BESAC). Federal Advisory Committee Act (Pub. L. 92-463, 86 Stat. 770) requires that public notice of these meetings be announced in the Federal Register.

DATES: Thursday, July 24, 2008, 8:30 a.m. to 5 p.m., and Friday, July 25, 2008, 8:30 a.m. to 12 p.m.

ADDRESSES: Bethesda North Marriott Hotel and Conference Center, 5701 Marinelli Road, North Bethesda, MD 20852.

FOR FURTHER INFORMATION CONTACT: Karen Talamini, Office of Basic Energy Sciences, U.S. Department of Energy, Germantown Building, Independence Avenue, Washington, DC 20585; Telephone: (301) 903-4563.

SUPPLEMENTARY INFORMATION: Purpose of the Meeting: The purpose of this meeting is to provide advice and guidance with respect to the basic energy sciences research program.

Tentative Agenda: Agenda will include discussions of the following:

• News from DOE.

• News from the Office of Basic Energy Sciences.

• Report of the COV of the Chemical Sciences, Geosciences and Biosciences Division.

• Reports from the BES Nanoscience Centers.

• Report from the New Era Subcommittee.

Public Participation: The meeting is open to the public. If you would like to file a written statement with the Committee, you may do so either before or after the meeting. If you would like to make oral statements regarding any of the items on the agenda, you should contact Karen Talamini at 301-903-6594 (fax) or karen.talamini@science.doe.gov (e-mail). You must make your request for an oral statement at least 5 business days prior to the meeting. Reasonable provision will be made to include the scheduled oral statements on the agenda. The Chairperson of the Committee will conduct the meeting to facilitate the orderly conduct of business. Public comment will follow the 10-minute rule.

Minutes: The minutes of this meeting will be available for public review and copying at the Freedom of Information Public Reading Room, 1E-190, Forrestal Building, 1000 Independence Avenue, SW., Washington, DC 20585, between 9 a.m. and 4 p.m., Monday through Friday, except holidays.

Issued in Washington, DC on June 20, 2008.
Rachel Samuel,
Deputy Committee Management Officer.

[FR Doc. E8-14343 Filed 6-24-08; 8:45 am]

BILLING CODE 6450-01-P